ENVIRONMENTAL PROTECTION AGENCY

[ER-FRL-6683-6]

Environmental Impacts Statements; Notice Of Availability

Responsible Agency: Office of Federal Activities, General Information (202) 564-7167 or http://www.epa.gov/compliance/nepa/.

Weekly receipt of Environmental Impact Statements Filed 01/22/2007 Through 01/26/2007

Pursuant to 40 CFR 1506.9.

EIS No. 20070019, Draft EIS, FHW, TX, Grand Parkway/State Highway 99 Improvement Project, Segment G, from Interstate Highway (IH) 45 to U.S. 59, Funding, Right-of-Way Grant, U.S. Army COE Section 404 Permit, Harris and Montgomery Counties, TX, Comment Period Ends: 04/27/2007, Contact: Donald Davis 512-536-5960.

EIS No. 20070020, Final EIS, AFS, AK, Tuxekan Island Timber Sale(s) Project, Timber Harvesting, Implementation, Coast Guard Bridge Permit, U.S. Army COE Section 10 and 404 Permits, Tongas National Forest, Thorne Bay Ranger District, Thorne Bay, AK, Wait Period Ends: 03/05/2007, Contact: Forrest Cole 907-228-6200.

EIS No. 20070021, Draft Supplement, BLM, MT, Montana Statewide Oil and Gas, Development Alternative for Coal Bed Natural Gas Production and Amendment of the Powder River and Billings Resource Management Plans, Additional Information Three New Alternatives, Implementation, U.S. Army COE Section 404 Permit, NPDES Permit, Several Cos, MT, Comment Period Ends:05/02/2007, Contact: Mary Bloom 406-233-2852. This document is available on the Internet at: http://www.blm.gov/eis/mt/milescity_seis/.

EIS No. 20070022, Final EIS, AFS, MN,Echo Trail Area Forest Management Project, Forest Vegetation Management and Related Transportation System, Superior National Forest Land and Resource Management Plan, Implementation, Lacroix Ranger District and Kawishiwi Ranger District, St. Louis and Lake Counties, MN, Wait Period Ends: 03/05/2007, Contact: Carol Booth 218-666-0020.

EIS No. 20070023, Final EIS, AFS, WA, Buckhorn Access Project, To Utilize the Marias Creek Route to Construct and Reconstruct Roads, Funding, NPDES Permit and U.S. Army COE Section 404 Permit, Okanogan and Wenatchee National Forests, Tonasket Ranger District, Okanogan County, WA, Wait Period Ends: 03/05/2007, Contact: Phil Christy 509-486-5137. This document is available on the Internet at: http://www.fs.fed.us/r6/oka/projects.

EIS No. 20070024, Final EIS, AFS, PA, West Branch of Tionesta Project, Multiple Resource Management, Implementation Bradford Ranger District, Allegheny National Forest, Warren County, PA, Wait Period Ends: 03/05/2007 Contact: Ava Turnquist 814-362-4613.

EIS No. 20070025, Draft EIS, AFS, OR, Invasive Plant Treatments within the Deschutes and Ochoco National Forests and the Crooked River National Grassland, Reduction of Invasive Plant Infestation and Protection of Uninfested Areas, Implementation, Several Cos. OR, Comment Period Ends: 03/19/2007, Contact: Beth Peer 541-383-5300. This document is available on the Internet at: http://www.fs.fed.us/r6/invasiveplant-eis/site-specific/DES.

EIS No. 20070026, Draft EIS, FRC, LA, Kinder Morgan Louisiana Pipeline Project, Natural Gas Pipeline Facilities, Construction and Operation, U.S. Army COE Section 10 and 404 Permits, Evangeline, Cameron, and Acadia Parishes, LA, Comment Period Ends: 03/19/2007, Contact: Andy Black 1-866-208-3372.

Amended Notices

EIS No. 20060414, Draft EIS, USA, CO,Pinon Canyon Maneuver Site (PCMS) Transformation Program, Implementation, Base Realignment and Closure Activities, Fort Carson, Las Animas, Otero and Huerfano Counties, CO, Comment Period Ends: 02/16/2007, Contact: Karen Wilson 703-602-2861. Revision to FR Notice Published 10/13/2006: Reopening Comment Period from 01/11/2007 to 02/16/2007.

EIS No. 20060505, Draft EIS, NOA, 00, South Atlantic Snapper Grouper Fishery, Amendment 14 to Establish Eight Marine Protected Areas in Federal Waters, Implementation, South Atlantic Region, Comment Period Ends:02/12/2007, Contact: Roy E. Crabtree 727-824-5305. Revision to FR Notice Published 12/15/2006: Extending Comment Period from 01/29/2007 to 02/12/2007.

Dated: January 29, 2007.
Robert W. Hargrove,
Director, NEPA Compliance Division, Office of Federal Activities.

[FR Doc. E7-1727 Filed 2-1-07; 8:45 am]

BILLING CODE 6560-50-P